ENVIRONMENTAL PROTECTION AGENCY

40 CFR Part 52

[EPA-R03-OAR-2020-0575; FRL-9061-02-R3]

Approval and Promulgation of Air Quality Implementation Plans; Pennsylvania; Reasonably Available Control Technology Determinations for Case-by-Case Sources Under the 2008 8-Hour Ozone National Ambient Air Quality Standards

AGENCY: Environmental Protection Agency (EPA).

ACTION: Final rule.

SUMMARY: The Environmental Protection Agency (EPA) is approving multiple state implementation plan (SIP) revisions submitted by the Commonwealth of Pennsylvania. These revisions were submitted by the Pennsylvania Department of Environmental Protection (PADEP) to establish and require reasonably available control technology (RACT) for individual major sources of volatile organic compounds (VOC) and/or nitrogen oxides (NOX) pursuant to the Commonwealth of Pennsylvania's conditionally approved RACT regulations. In this rule action, EPA is only approving source-specific RACT determinations (“case-by-case” or alternative NOX emissions limits) for sources at nine major NOX and VOC emitting facilities located in Allegheny County. These RACT evaluations were submitted to meet RACT requirements for the 2008 8-hour ozone national ambient air quality standard (NAAQS). EPA is approving these revisions to the Pennsylvania SIP in accordance with the requirements of the Clean Air Act (CAA) and EPA's implementing regulations.

DATES: This final rule is effective on November 22, 2021.

ADDRESSES: EPA has established a docket for this action under Docket ID Number EPA-R03-OAR-2020-0575. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the For Further Information Contact section for additional availability information.

FOR FURTHER INFORMATION CONTACT: Mr. Riley Burger, Permits Branch (3AD10), Air and Radiation Division, U.S. Environmental Protection Agency, Region III, 1650 Arch Street, Philadelphia, Pennsylvania 19103. The telephone number is (215) 814-2217. Mr. Burger can also be reached via electronic mail at burger.riley@epa.gov.

SUPPLEMENTARY INFORMATION:

I. Background

On May 7, 2021, EPA published a notice of proposed rulemaking (NPRM). 86 FR 24564. In the NPRM, EPA proposed approval of case-by-case RACT determinations for sources at ten facilities in Allegheny County, as EPA found that that the RACT controls for these sources met the CAA RACT requirements for the 2008 ozone NAAQS. PADEP, on behalf of Allegheny County Health Department (ACHD), initially submitted revisions to its SIP to address case-by-case NOx and VOC RACT for these sources on May 7, 2020 and supplemented the submittal on February 9, 2021.

Under certain circumstances, states are required to submit SIP revisions to address RACT requirements for both major sources of NOX and VOC and any source covered by control technique guidelines (CTG) for each ozone NAAQS. Which NOX and VOC sources in Pennsylvania are considered “major,” and are therefore subject to RACT, is dependent on the location of each source within the Commonwealth. Sources located in nonattainment areas would be subject to the “major source” definitions established under the CAA based on the area's current classification(s). In Pennsylvania, sources located in any ozone nonattainment areas outside of moderate or above are subject to the major source threshold of 50 tons per year (tpy) because of the Ozone Transport Region (OTR) requirements in CAA section 184(b)(2).

On May 16, 2016, PADEP submitted a SIP revision addressing RACT for both the 1997 and 2008 8-hour ozone NAAQS in Pennsylvania. PADEP's May 16, 2016 SIP revision intended to address certain outstanding non-CTG VOC RACT, VOC CTG RACT and major source VOC and NOX RACT requirements for both standards. The SIP revision requested approval of Pennsylvania's 25 Pa. Code 129.96-100, Additional RACT Requirements for Major Sources of NOX and VOCs (the “presumptive” RACT II rule). Prior to the adoption of the RACT II rule, Pennsylvania relied on the NOX and VOC control measures in 25 Pa. Code 129.92-95, Stationary Sources of NOX and VOCs, (the RACT I rule) to meet RACT for non-CTG major VOC sources and major NOX sources. The requirements of the RACT I rule remain approved into Pennsylvania's SIP and continue to be implemented as RACT.¹ On September 26, 2017, PADEP submitted a letter, dated September 22, 2017, which committed to address various deficiencies identified by EPA in PADEP's May 16, 2016 “presumptive” RACT II rule SIP revision.

¹ The RACT I Rule was approved by EPA into the Pennsylvania SIP on March 23, 1998. 63 FR 13789. Through this rule, certain source-specific RACT I requirements will be superseded by more stringent requirements. See Section II of the preamble to this Final Rule.

On May 9, 2019, EPA conditionally approved the RACT II rule based on the commitments PADEP made in its September 22, 2017 letter.² 84 FR 20274. In EPA's final conditional approval, EPA noted that PADEP would be required to submit, for EPA's approval, SIP revisions to address any facility-wide or system-wide NOX emissions averaging plans approved under 25 Pa. Code 129.98 and any case-by-case RACT determinations under 25 Pa. Code 129.99. PADEP committed to submitting these additional SIP revisions within 12 months of EPA's final conditional approval (i.e., by May 9, 2020). Through multiple submissions between 2017 and 2020, PADEP has submitted to EPA for approval various SIP submissions to implement its RACT II case-by-case determinations and NOX averaging plan limits. This rulemaking is based on EPA's review of one of these SIP submissions.

² On August 27, 2020, the Third Circuit Court of Appeals issued a decision vacating EPA's approval of three provisions of Pennsylvania's presumptive RACT II rule applicable to certain coal-fired power plants. Sierra Club v. EPA, 972 F.3d 290 (3d Cir. 2020). None of the sources in this rule are subject to the three presumptive RACT II provisions at issue in that Sierra Club decision.

The SIP revisions in this action only establish 2008 8-hour ozone NAAQS RACT requirements. Applicable RACT requirements under the CAA for sources located in Allegheny County for the 1997 8-hour ozone NAAQS were previously satisfied. See 78 FR 34584 (June 10, 2013).

II. Summary of SIP Revision and EPA Analysis

A. Summary of SIP Revision

To satisfy a requirement from EPA's May 9, 2019 conditional approval, PADEP submitted to EPA SIP revisions addressing alternative NOX emissions limits and/or case-by-case RACT requirements for major sources in Pennsylvania subject to 25 Pa. Code 129.98 or 129.99. Among the submitted SIP revisions were case-by-case RACT determinations for sources in Allegheny County, which PADEP submitted on behalf of ACHD. PADEP's submission included SIP revisions pertaining to case-by-case RACT determinations for the existing emissions units at each of the major sources of NOX and/or VOC that required a case-by-case RACT determination.

In the case-by-case RACT determinations submitted by PADEP on behalf of ACHD, an evaluation was completed to determine if previously SIP-approved, case-by-case RACT emission limits or operational controls (herein referred to as RACT I and contained in RACT I permits) were more stringent than the new RACT II presumptive or case-by-case requirements. If more stringent, the RACT I requirements will continue to apply to the applicable source. If the new case-by-case RACT II requirements are more stringent than the RACT I requirements, then the RACT II requirements will supersede the prior RACT I requirements.³

³ While the prior SIP-approved RACT I permit will remain part of the SIP, this RACT II rule will incorporate by reference the RACT II requirements through the RACT II permit and clarify the ongoing applicability of specific conditions in the RACT I permit.

Here, EPA is approving SIP revisions pertaining to case-by-case RACT requirements for sources at nine major NOX and/or VOC emitting facilities in Allegheny County, as summarized in Table 1 in this document.⁴

⁴ In its May 7, 2021 proposed rulemaking, EPA had proposed approval of SIP revisions pertaining to case-by-case RACT requirements for sources at ten major NOX and/or VOC emitting facilities in Allegheny County. At this time, EPA is only approving such SIP revisions at nine of those facilities and is not taking final action on the SIP revision related to the PPG Industries Inc. Springdale Plant.

Table 1—Nine Major NOX and/or VOC Emitting Facilities in Allegheny County Subject to Source-Specific Ract II Determinations Under the 1997 and 2008 8-Hour Ozone NAAQS
Major source | 1997 8-hour ozone RACT source? (RACT I) | Major source pollutant (NOX and/or VOC) | RACT II permit (effective date)
Bellefield Boiler Plant (formerly Bellefield Boiler Plant—Pittsburgh) | Yes | NOX | 0047-I003a (11/30/20).
Eastman Chemical Resins, Inc Jefferson Site (formerly Hercules, Inc.—West Elizabeth) | Yes | VOC | 0058-I026a (9/30/20).
Energy Center Pittsburgh LLC North Shore Plant (formerly NRG Energy Center) | Yes | NOX | 0022-I003a (11/30/20).
Neville Chemical Company | Yes | VOC | 0060d (11/10/20).
Pittsburgh Allegheny Co. Thermal, LTD | Yes | NOX | 0044-I001a (11/30/20).
Universal Stainless & Alloy Products, Inc | Yes | NOX | 0027a (2/20/20).
U.S. Steel Mon Valley Works Clairton Plant (formerly U.S. Steel (USX Corporation)—Clairton Works) | Yes | VOC and NOX | 0052-I020b (12/11/20).
U.S. Steel Mon Valley Works Edgar Thomson Plant (formerly USX Corporation—Edgar Thomson Works) | Yes | VOC and NOX | 0051-I008a (12/7/20).
U.S. Steel Mon Valley Works—Irvin Plant (formerly USX, Inc.—Irvin Works) | Yes | VOC and NOX | 0050-OP16c (12/7/20).

The case-by-case RACT determinations submitted by PADEP, on behalf of ACHD, consist of an evaluation of all reasonably available controls at the time of evaluation for each affected emissions unit, resulting in an ACHD determination of what specific emission limit or control measures satisfy RACT for that particular unit. The adoption of new, additional, or revised emission limits or control measures to existing SIP-approved RACT I requirements were specified as requirements in new or revised Federally enforceable permits (hereafter RACT II permits) issued by ACHD to the source. These RACT II permits have been submitted as part of the Pennsylvania RACT SIP revisions for EPA's approval into the Pennsylvania SIP under 40 CFR 52.2020(d)(1). The RACT II permits submitted by PADEP are listed in the last column of Table 1 of this preamble, along with the permit effective date, and are part of the docket for this rule, which is available online at https://www.regulations.gov, Docket No. EPA-R03-OAR-2020-0575.⁵ EPA is incorporating by reference in the Pennsylvania SIP, via the RACT II permits, source-specific RACT emission limits and control measures under the 2008 8-hour ozone NAAQS for certain major sources of NOX and VOC emissions.

⁵ The RACT II permits included in the docket for this rule are redacted versions of the facilities' Federally enforceable permits. They reflect the specific RACT requirements being approved into the Pennsylvania SIP via this final action.

B. EPA's Final Action

PADEP's SIP revisions incorporate ACHD's determinations of source-specific RACT II controls for individual emission units at major sources of NOX and/or VOC in Allegheny County, where those units are not covered by or cannot meet Pennsylvania's presumptive RACT regulation. After thorough review and evaluation of the information provided by ACHD in the SIP revision submittals for sources at nine major NOX and/or VOC emitting facilities in Allegheny County, EPA found that (1) ACHD's case-by-case RACT determinations and conclusions establish limits and/or controls on individual sources that are reasonable and appropriately considered technically and economically feasible controls and (2) ACHD's determinations are consistent with the CAA, EPA regulations, and applicable EPA guidance.

ACHD, in its RACT II determinations, considered the prior source-specific RACT requirements and, where more stringent, retained those prior RACT requirements as part of its new RACT determinations. In the NPRM, EPA proposed to find that all the proposed revisions to previously SIP-approved RACT requirements would result in equivalent or additional reductions of NOX and/or VOC emissions. The proposed revisions should not interfere with any applicable requirements concerning attainment of the NAAQS, reasonable further progress, or other applicable requirements under section 110(l) of the CAA.

Other specific requirements of the 2008 8-hour ozone NAAQS case-by-case RACT determinations and the rationale for EPA's proposed action are explained more thoroughly in the NPRM, and its associated technical support document (TSD), and will not be restated here.

III. Public Comments and EPA Responses

EPA received comments from three commenters on the May 7, 2021 NPRM. 86 FR 24564. A summary of the comments and EPA's responses are discussed in this section. A copy of the comments can be found in the docket for this rule action.

Comment 1: Two commenters indicated that the permit for U.S Steel Mon Valley Works—Clairton listed in the table of the document should be Permit No. 0052-I020b effective, December 11, 2021 rather than Permit No., 0052-I020a effective, December 7, 2021.

Response 1: EPA agrees with commenters and has corrected the permit number and effective date indicated in the tables of this preamble.

Comment 2: One commenter identified that there is an appeal of the RACT II permit for the PPG Springdale facility pending before ACHD's Hearing Officer and, therefore, requested EPA not take final action on the SIP revision.

Response 2: EPA is not taking final action on the PPG Springdale RACT determination at this time and will act on this SIP revision in a later rulemaking. EPA will respond to the comment at that time.

IV. Final Action

EPA is approving case-by-case RACT determinations for sources at nine major NOX and VOC emitting facilities in Allegheny County, as required to meet obligations pursuant to the 2008 8-hour ozone NAAQS, as revisions to the Pennsylvania SIP.

V. Incorporation by Reference

In this document, EPA is finalizing regulatory text that includes incorporation by reference. In accordance with requirements of 1 CFR 51.5, EPA is finalizing the incorporation by reference of source-specific RACT determinations and NOx averaging plan limits under the 1997 and 2008 8-hour ozone NAAQS for certain major sources of VOC and NOX in Allegheny County. EPA has made, and will continue to make, these materials generally available through https://www.regulations.gov and at the EPA Region III Office (please contact the person identified in the For Further Information Contact section of this preamble for more information). Therefore, these materials have been approved by EPA for inclusion in the SIP, have been incorporated by reference by EPA into that plan, are fully Federally enforceable under sections 110 and 113 of the CAA as of the effective date of the final rule of EPA's approval, and will be incorporated by reference in the next update to the SIP compilation.⁶

⁶ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

C. Petitions for Judicial Review

Under section 307(b)(1) of the CAA, petitions for judicial review of this action must be filed in the United States Court of Appeals for the appropriate circuit by December 20, 2021. Filing a petition for reconsideration by the Administrator of this final rule does not affect the finality of this action for the purposes of judicial review nor does it extend the time within which a petition for judicial review may be filed, and shall not postpone the effectiveness of such rule or action.

This action approving Pennsylvania's NOX and VOC RACT requirements for nine facilities for the 2008 8-hour ozone NAAQS may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: October 8, 2021.
Diana Esher,
Acting Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (d)(1) is amended by:

a. Revising the entries for “Hercules, Inc.—West Elizabeth” (Permit No. E.O.-216); “Hercules, Inc.—West Elizabeth” (Permit No. CO-257); “Neville Chemical Company”; “Universal Stainless & Alloy Products, Inc”; “U.S. Steel (USX Corporation.)—Clairton Works)”; “USX Corporation—Edgar Thomson Works”; “USX, Inc.—Irvin Works”; “Bellefield Boiler Plant—Pittsburgh”; and “Pittsburgh Allegheny County Thermal, Ltd”; “NRG Energy Center (formerly Pittsburgh Thermal Limited Partnership)”;

b. Adding entries, in the following order, at the end of the table for “Bellefield Boiler Plant (formerly referenced as Bellefield Boiler Plant—Pittsburgh) ”; “Eastman Chemical Resins, Inc. Jefferson Site (formerly referenced as Hercules, Inc.—West Elizabeth)”; “Energy Center Pittsburgh LLC North Shore Plant (formerly referenced as NRG Energy Center)”; “U.S. Steel Mon Valley Works Clairton Plant (formerly referenced as U.S. Steel (USX Corporation)—Clairton Works)”; “U.S. Steel Mon Valley Works Edgar Thomson Plant (formerly referenced as USX Corporation—Edgar Thomson Works)”; and “U.S. Steel Mon Valley Works—Irvin Plant (formerly referenced as USX, Inc.—Irvin Works)”; “Neville Chemical Company”; “Pittsburgh Allegheny Co. Thermal, LTD”; and “Universal Stainless & Alloy Products, Inc.”.

The revisions and additions read as follows:

§ 52.2020 Identification of plan.

* * * * *

(d) * * *

(1) * * *

Name of source | Permit No. | County | State effective date | EPA approval date | Additional explanations/§§ 52.2063 and 52.2064 citations ¹
* * * * * * *
Hercules, Inc.—West Elizabeth | EO-216 | Allegheny | 3/8/96 | 10/16/01, 66 FR 52506 | See also 52.2064(e)(2).
Hercules, Inc.—West Elizabeth | CO-257 | Allegheny | 1/14/97 11/1/99 | 10/16/01, 66 FR 52506 | See also 52.2064(e)(2).
Neville Chemical Company | CO-230 | Allegheny | 12/13/96 | 10/16/01, 66 FR 52506 | See also 52.2064(e)(4).
* * * * * * *
Universal Stainless & Alloy Products, Inc | CO-241 | Allegheny | 12/19/96 | 10/16/01, 66 FR 52511 | See also 52.2064(e)(6).
* * * * * * *
U.S. Steel (USX Corporation.)—Clairton Works | CO-234 | Allegheny | 12/30/96 | 10/16/01, 66 FR 52511 | See also 52.2064(e)(7).
USX Corporation—Edgar Thomson Works | CO-235 | Allegheny | 12/30/96 | 10/16/01, 66 FR 52511 | See also 52.2064(e)(8).
USX, Inc.—Irvin Works | CO-258 | Allegheny | 12/30/96 | 10/16/01, 66 FR 52511 | See also 52.2064(e)(9).
* * * * * * *
Bellefield Boiler Plant—Pittsburgh | EO-248 | Allegheny | 12/19/96 | 10/12/01, 66 FR 52044 | See also 52.2064(e)(1).
* * * * * * *
Pittsburgh Allegheny County Thermal, Ltd | CO-265 | Allegheny | 11/9/98 | 10/12/01, 66 FR 52044 | See also 52.2064(e)(5).
* * * * * * *
NRG Energy Center (formerly Pittsburgh Thermal Limited Partnership) | CO220 | Allegheny | 3/4/96 | 05/11/06, 71 FR 27394 | See also 52.2064(e)(3).
* * * * * * *
Bellefield Boiler Plant (formerly referenced as Bellefield Boiler Plant—Pittsburgh) | 0047-I003a | Allegheny | 11/30/20 | 10/21/21, [insert Federal Register citation] | 52.2064(e)(1).
Eastman Chemical Resins, Inc. Jefferson Site (formerly referenced as Hercules, Inc.—West Elizabeth) | 0058-I026a | Allegheny | 9/30/20 | 10/21/21, [insert Federal Register citation] | 52.2064(e)(2).
Energy Center Pittsburgh LLC North Shore Plant (formerly referenced as NRG Energy Center) | 0022-I003a | Allegheny | 11/30/20 | 10/21/21, [insert Federal Register citation] | 52.2064(e)(3).
U.S. Steel Mon Valley Works Clairton Plant (formerly referenced as U.S. Steel (USX Corporation)—Clairton Works) | 0052-I020b | Allegheny | 12/11/20 | 10/21/21, [insert Federal Register citation] | 52.2064(e)(7).
U.S. Steel Mon Valley Works Edgar Thomson Plant (formerly referenced as USX Corporation—Edgar Thomson Works) | 0051-I008a | Allegheny | 12/7/20 | 10/21/21, [insert Federal Register citation] | 52.2064(e)(8).
U.S. Steel Mon Valley Works—Irvin Plant (formerly referenced as USX, Inc.—Irvin Works) | 0050-OP16c | Allegheny | 12/7/20 | 10/21/21, [insert Federal Register citation] | 52.2064(e)(9).
Neville Chemical Company | 0060d | Allegheny | 11/10/20 | 10/21/21, [insert Federal Register citation] | 52.2064(e)(4).
Pittsburgh Allegheny Co. Thermal, LTD | 0044-I001a | Allegheny | 11/30/20 | 10/21/21, [insert Federal Register citation] | 52.2064(e)(5).
Universal Stainless & Alloy Products, Inc. | 0027a | Allegheny | 2/20/20 | 10/21/21, [insert Federal Register citation] | 52.2064(e)(6).
¹ The cross-references that are not § 52.2064 are to material that pre-date the notebook format. For more information, see § 52.2063.

* * * * *

3. Amend § 52.2064 by adding paragraph (e) to read as follows:

§ 52.2064 EPA-approved Source-Specific Reasonably Available Control Technology (RACT) for Volatile Organic Compounds (VOC) and Oxides of Nitrogen (NOX).

* * * * *

(e) Approval of source-specific RACT requirements for 2008 8-hour ozone national ambient air quality standards for the facilities listed in this paragraph are incorporated as specified. (Rulemaking Docket No. EPA-OAR-2020-0575).

(1) Bellefield Boiler Plant—Incorporating by reference Installation Permit No. 0047-I003a, issued on April 14, 2020 and amended on November 30, 2020 as redacted by ACHD, which supersedes RACT Enforcement Order No. 248, effective December 19, 1996, except for Conditions 1.2, 1.3, 1.4, 1.5 and 1.7A through E, which remain as RACT requirements. See also § 52.2063(c)(177)(i)(B)(3) for prior RACT approval.

(2) Eastman Chemical Resins, Inc. Jefferson Site—Installation Permit No. 0058-I026 issued April 21, 2020, as redacted by ACHD, which supersedes Consent Order No. 257, issued on January 14, 1997, except for Conditions 1.1, 1.2, 1.3, 1.4, and 1.7, which remain as RACT requirements. The requirements of Enforcement Order No. 216, issued March 8, 1996, also continue to apply to identified sources that continue to operate. See also §§ 52.2063(c)(166)(i)(B)(2) and 52.2063(c)(166)(i)(B)(3), respectively, for prior RACT approval.

(3) Energy Center Pittsburgh LLC, North Shore Plant— Incorporating by reference Installation Permit No. 0022-I003a, issued on March 18, 2020 and amended on November 30, 2020, as redacted by ACHD. All permit conditions in the prior RACT Permit, CO No. 220, effective March 4, 1996, remain as RACT requirements. See also § 52.2063(d)(1)(o) for prior RACT approval.

(4) Neville Chemical Company—Incorporating by reference Installation Permit No. 00060d issued September 28, 2015 and amended on November 10, 2020, as redacted by ACHD, which supersedes Consent Order No. 230, issued on December 13, 1996, except for Conditions 1.1, 1.3, 1.5, 1.6, 1.7. 1.9, and 1.10, which remain as RACT requirements. See also § 52.2063(c)(166)(i)(B)(4) for prior RACT approval.

(5) Pittsburgh Allegheny County Thermal, Ltd—Incorporating by reference Permit No. 0044-I001a, issued on March 25, 2020 and amended on November 30, 2020, as redacted by ACHD. All permit conditions in the prior RACT Permit, CO No. 265, effective November 9, 1998, remain as RACT requirements. See also § 52.2063(c)(177)(i)(B)(8) for prior RACT approval.

(6) Universal Stainless & Alloy Products, Inc.—Incorporating by reference Title V Operating Permit No. 0027a, issued on November 21, 2017 and amended on February 20, 2020, as redacted by ACHD, which supersedes Consent Order No. 241 issued on December 19, 1996, except for Conditions 1.1, 1.2, and 1.3, which remain as RACT requirements. See also § 52.2063(c)(172)(i)(B)(2) for prior RACT approval.

(7) U.S. Steel Mon Valley Works Clairton Plant—Incorporating by reference Installation Permit No. 0052-I020b, revised and issued December 11, 2020, as redacted by ACHD, which supersedes RACT Consent Order No. 234, issued December 30, 1996, except for Conditions 1.1, 1.3, 1.4, 1.5, and 1.6, which remain as RACT requirements. See also § 52.2063(c)(172)(i)(B)(5) for prior RACT approval.

(8) U.S. Steel Mon Valley Works Edgar Thompson Plant—Incorporating by reference Installation Permit 0051-I008a, revised and effective on (December 7, 2020), which supersedes the RACT Consent Order No. 235, issued December 30, 1996, except for Conditions 1.1, 1.3, 1.4, 1.5, 1.6, and 1.7, which remain as RACT requirements. See also § 52.2063(c)(172)(i)(B)(6) for prior RACT approval.

(9) U.S. Steel Mon Valley Works—Irvin Plant—Incorporating by reference Title V Operating Permit No. 0050-OP16c, issued on December 7, 2020, as redacted by ACHD, which supersedes RACT Consent Order No. 258, issued December 30, 1996, except for Conditions 1.1 and 1.2 and for Source ID P008 (No. 3 Five Stand Cold Reduction Mill) Condition 1.3, which remain as RACT requirements. See also § 52.2063(c)(172)(i)(B)(7) for prior RACT approval.

[FR Doc. 2021-22570 Filed 10-20-21; 8:45 am]

BILLING CODE 6560-50-P